DEPARTMENT OF HOMELAND SECURITY

Office of the Secretary

6 CFR Chs. I and II

[DHS Docket No. OGC-RP-04-001]

Unified Agenda of Federal Regulatory and Deregulatory Actions

AGENCY: Office of the Secretary, DHS.

ACTION: Semiannual Regulatory Agenda.

SUMMARY: This regulatory agenda is a semiannual summary of projected regulations, existing regulations, and completed actions of the Department of Homeland Security (DHS) and its components. This agenda provides the public with information about DHS's regulatory and deregulatory activity. DHS expects that this information will enable the public to be more aware of, and effectively participate in, the Department's regulatory and deregulatory activity. DHS invites the public to submit comments on any aspect of this agenda.

FOR FURTHER INFORMATION CONTACT:

General

Please direct general comments and inquiries on the agenda to the Regulatory Affairs Law Division, Office of the General Counsel, U.S. Department of Homeland Security, 2707 Martin Luther King Jr. Avenue SE, Mail Stop 0485, Washington, DC 20528-0485.

Specific

Please direct specific comments and inquiries on individual actions identified in this agenda to the individual listed in the summary portion as the point of contact for that action.

SUPPLEMENTARY INFORMATION: DHS provides this notice pursuant to the requirements of the Regulatory Flexibility Act (Pub. L. 96-354, Sept. 19, 1980) and Executive Order 12866 “Regulatory Planning and Review” (Sept. 30, 1993) as incorporated in Executive Order 13563 “Improving Regulation and Regulatory Review” (Jan. 18, 2011), which require the Department to publish a semiannual agenda of regulations. The regulatory agenda is a summary of existing and projected regulations as well as actions completed since the publication of the last regulatory agenda for the Department. DHS's last semiannual regulatory agenda was published online on December 13, 2024, at https://www.reginfo.gov/public/do/eAgendaMain.

Beginning in fall 2007, the internet became the basic means for disseminating the Unified Agenda. The complete Unified Agenda is available online at www.reginfo.gov.

The Regulatory Flexibility Act (5 U.S.C. 602) requires Federal agencies to publish their regulatory flexibility agendas in the Federal Register. A regulatory flexibility agenda shall contain, among other things, a brief description of the subject area of any rule which is likely to have a significant economic impact on a substantial number of small entities. DHS's printed agenda entries include regulatory actions that are in the Department's regulatory flexibility agenda. Printing of these entries is limited to fields that contain information required by the agenda provisions of the Regulatory Flexibility Act. Additional information on these entries is available in the Unified Agenda published on the internet.

The semiannual agenda of the Department conforms to the Unified Agenda format developed by the Regulatory Information Service Center.

Christina E. McDonald,
Associate General Counsel for Regulatory Affairs.

U.S. Citizenship and Immigration Services—Proposed Rule Stage
Sequence No. | Title | Regulation Identifier No.
89 | Petition for Immigrant Worker Reforms | 1615-AC85
90 | U.S. Citizenship and Immigration Services Employment-Based Immigrant Visa, Fifth Preference (EB-5) Fee Rule | 1615-AC93

U.S. Citizenship and Immigration Services—Completed Actions
Sequence No. | Title | Regulation Identifier No.
91 | Modernizing H-1B Requirements and Oversight, Providing Flexibility in the F-1 Program, and Program Improvements Affecting Other Nonimmigrant Workers | 1615-AC70
92 | Modernizing H-2 Program Requirements, Oversight, and Worker Protections | 1615-AC76
93 | Modernizing Regulations Governing Nonimmigrant Workers | 1615-AC88

U.S. Coast Guard—Final Rule Stage
Sequence No. | Title | Regulation Identifier No.
94 | Implementation of Training Requirements for Personnel Serving on U.S.-Flagged Passenger Ships That Carry More than 12 Passengers on International Voyages | 1625-AC68

U.S. Coast Guard—Completed Actions
Sequence No. | Title | Regulation Identifier No.
95 | Cybersecurity in the Marine Transportation System | 1625-AC77

U.S. Customs and Border Protection—Proposed Rule Stage
Sequence No. | Title | Regulation Identifier No.
96 | Electronic Export Manifest For Vessel Cargo | 1651-AB59

Transportation Security Administration—Long-Term Actions
Sequence No. | Title | Regulation Identifier No.
97 | Vetting of Certain Surface Transportation Employees | 1652-AA69
98 | Amending Vetting Requirements for Employees With Access to a Security Identification Display Area (SIDA) | 1652-AA70

Cybersecurity and Infrastructure Security Agency—Long-Term Actions
Sequence No. | Title | Regulation Identifier No.
99 | Ammonium Nitrate Security Program | 1670-AA00

Customs Revenue Functions—Long-Term Actions
Sequence No. | Title | Regulation Identifier No.
100 | Entry of Low-Value Shipments | 1685-AA01
101 | Trade and National Security Actions and Low-Value Shipments | 1685-AA02

Department of Homeland Security (DHS): U.S. Citizenship and Immigration Services (USCIS) | Proposed Rule Stage

89. PETITION FOR IMMIGRANT WORKER REFORMS [1615-AC85]

Legal Authority: 6 U.S.C. 111, 112; 8 U.S.C. 1103(a); 8 U.S.C. 1153(b); 8 U.S.C. 1154(a)(1)(E) and (F); 8 U.S.C. 1182(a)(5)(C) and (r)

Abstract: The Department of Homeland Security (DHS) is proposing to amend its regulations governing employment-based immigrant petitions in the first, second, and third preference classifications. Petitions for these classifications are filed by employers, or in certain cases by aliens on their own behalf, to bring talent and skills to the United States. The proposed rule would, if finalized, implement reforms to ensure the integrity of the program, such as defining bona fide job offer and clarifying site visit authority. It would also codify current policy guidance and implement administrative decisions regarding successorship-in-interest and ability to pay; update provisions governing extraordinary ability and outstanding professors and researchers; modernize outdated provisions for individuals of extraordinary ability and outstanding professors and researchers; clarify evidentiary requirements for first preference classifications, second preference national interest waiver (NIW) classifications, and physicians of national and international renown; and correct errors and omissions.

Timetable:

Action | Date | FR Cite
NPRM | 01/00/26 |

Regulatory Flexibility Analysis Required: Yes

Agency Contact: Paul Buono, Chief, Business and Foreign Workers Division, Office of Policy and Strategy, Department of Homeland Security, U.S. Citizenship and Immigration Services, 5900 Capital Gateway Drive, Suite 4S190, Camp Springs, MD 20588-0009

Phone: 240 721-3000

RIN: 1615-AC85

90. U.S. CITIZENSHIP AND IMMIGRATION SERVICES EMPLOYMENT-BASED IMMIGRANT VISA, FIFTH PREFERENCE (EB-5) FEE RULE [1615-AC93]

Legal Authority: 8 U.S.C. 1101; 8 U.S.C. 1103; 8 U.S.C. 1254a; 8 U.S.C. 1254b; 8 U.S.C. 1304; 8 U.S.C. 1356; Pub. L. 107-609; 48 U.S.C. 1806; Pub. L. 107-296, 116 Stat. 2135 (6 U.S.C. 101 note); Pub. L. 115-218, 132 Stat. 1547; Pub. L. 116-159, 134 Stat. 709

Abstract: The Department of Homeland Security (DHS) is proposing to adjust the fees U.S. Citizenship and Immigration Services (USCIS) charges for Employment-Based Fifth Preference (EB-5) immigration benefit requests. This rule also proposes to codify in regulation certain elements of the EB-5 Reform and Integrity Act of 2022 and make one technical amendment. DHS intends that the rule will provide USCIS the resources necessary to accomplish the goals of the EB-5 Reform and Integrity Act of 2022 and enhance and maintain the integrity of the EB-5 program.

On Jan. 31, 2024, DHS adjusted these fees as part of a larger fee rule with other changes; however, it did not implement EB-5 Reform and Integrity Act of 2022 requirements.

Timetable:

Action | Date | FR Cite
NPRM | 08/00/25 |

Regulatory Flexibility Analysis Required: Yes

Agency Contact: Carol Cribbs, Deputy Chief Financial Officer, Department of Homeland Security, U.S. Citizenship and Immigration Services, 5900 Capital Gateway Drive, Camp Springs, MD 20746

Phone: 240 721-3000

RIN: 1615-AC93

Department of Homeland Security (DHS): U.S. Citizenship and Immigration Services (USCIS) | Completed Actions

91. MODERNIZING H-1B REQUIREMENTS AND OVERSIGHT, PROVIDING FLEXIBILITY IN THE F-1 PROGRAM, AND PROGRAM IMPROVEMENTS AFFECTING OTHER NONIMMIGRANT WORKERS [1615-AC70]

Legal Authority: 6 U.S.C. 101; 6 U.S.C. 112; 8 U.S.C. 1101(a)(15)(F) and (H)(i)(b), 1103(a)(1) and (3), 1184(a), (c), (g); and (i); 8 U.S.C. 1258; and 1357(b); . . .

Abstract: On October 23, 2023, the Department of Homeland Security (DHS) published a notice of proposed rulemaking (NPRM or proposed rule) at 88 FR 72870 that proposed to amend its regulations governing H-1B specialty occupation workers and F-1 students who are the beneficiaries of timely filed H-1B cap-subject petitions. Specifically, DHS proposed to revise the regulations relating to definition of “specialty occupation” and the “employer-employee relationship”; provide flexibility for beneficiary-owners; implement new requirements and guidelines for H-1B site visits; provide flexibility on the employment start date listed on the petition (in limited circumstances); address “cap-gap” issues; bolster the H-1B registration process to reduce the possibility of misuse and fraud in the H-1B registration system; modernize cap exemptions; clarify the requirement that an amended or new petition be filed where there are material changes; and codify USCIS' deference policy and requirement of maintenance of status for all employment-based nonimmigrant classifications that use Form I-129, among other provisions. The October 23, 2023, NPRM was informed by public comments USCIS received in response to a Request for Public Input that published on April 19, 2021.

On February 2, 2024, DHS published a final rule, 89 FR 7456, implementing a beneficiary centric selection process for H-1B registrations, as well as additional integrity measures and flexibilities related to H-1B registration. On December 18, 2024, DHS published a final rule, 89 FR 103054, to modernize and improve the efficiency of the H-1B program, add benefits and flexibilities, and improve integrity measures.

Timetable:

Action | Date | FR Cite
NPRM | 10/23/23 | 88 FR 72870
NPRM Comment Period End | 12/22/23 |
Final Rule | 02/02/24 | 89 FR 7456
Final Rule Effective | 03/04/24 |
Final Rule | 12/18/24 | 89 FR 103054
Final Rule Effective | 01/17/25 |

Regulatory Flexibility Analysis Required: Yes

Agency Contact: Paul Buono, Chief, Business and Foreign Workers Division, Office of Policy and Strategy, Department of Homeland Security, U.S. Citizenship and Immigration Services, 5900 Capital Gateway Drive, Suite 4S190, Camp Springs, MD 20588-0009

Phone: 240 721-3000

RIN: 1615-AC70

92. MODERNIZING H-2 PROGRAM REQUIREMENTS, OVERSIGHT, AND WORKER PROTECTIONS [1615-AC76]

Legal Authority: 6 U.S.C. 111, 112, 8 U.S.C. secs. 1101(a)(15)(H)(ii)(a) and (b);1103(a)(3), 1184(a), (c) and (g), 1324a, 1225; 1258; 1357; 1374a

Abstract: On December 18, 2024, DHS published a final rule amending its regulations affecting temporary agricultural (H-2A) and temporary nonagricultural (H-2B) nonimmigrant workers (H-2 programs) and their employers. The final rule went into effect on January 17, 2025. The final rule modernizes and improves H-2 regulations by strengthening the integrity of the H-2 programs, providing greater flexibilities for H-2 workers, and increasing program efficiency. DHS did not make any changes that revise the temporary labor certification process or the regulations contained in 20 CFR part 655 or 29 CFR part 501 and 503.

Timetable:

Action | Date | FR Cite
NPRM | 09/20/23 | 88 FR 65040
NPRM Comment Period End | 11/20/23 |
Final Rule | 12/18/24 | 89 FR 103202
Final Rule Effective | 01/17/25 |

Regulatory Flexibility Analysis Required: Yes

Agency Contact: Paul Buono, Chief, Business and Foreign Workers Division, Office of Policy and Strategy, Department of Homeland Security, U.S. Citizenship and Immigration Services, 5900 Capital Gateway Drive, Suite 4S190, Camp Springs, MD 20588-0009

Phone: 240 721-3000

RIN: 1615-AC76

93. MODERNIZING REGULATIONS GOVERNING NONIMMIGRANT WORKERS [1615-AC88]

Legal Authority: 8 U.S.C. 1101; 8 U.S.C. 1184; 8 U.S.C. 1324a

Abstract: USCIS is withdrawing this rule from the Unified Agenda. The Department of Homeland Security (DHS) proposes to amend its regulations governing certain nonimmigrant workers. The proposed changes include updating the employment authorization rules regarding dependent spouses of certain nonimmigrants; providing flexibilities for certain nonimmigrant workers, including those who resign or are terminated from employment, to find employment, and religious workers who have been negatively impacted by the recent EB-4 visa retrogression, and modernizing policies and procedures for Employment Authorization Documents.

Timetable:

Action | Date | FR Cite
Withdrawn | 04/04/25 |

Regulatory Flexibility Analysis Required: Yes

Agency Contact: Mark Phillips, Residence and Naturalization Division Chief, Department of Homeland Security, U.S. Citizenship and Immigration Services, Office of Policy and Strategy, 5900 Capital Gateway Drive, Suite 4S190, Camp Springs, MD 20588-0009

Phone: 240 721-3000

RIN: 1615-AC88

Department of Homeland Security (DHS): U.S. Coast Guard (USCG) | Final Rule Stage

94. IMPLEMENTATION OF TRAINING REQUIREMENTS FOR PERSONNEL SERVING ON U.S.-FLAGGED PASSENGER SHIPS THAT CARRY MORE THAN 12 PASSENGERS ON INTERNATIONAL VOYAGES [1625-AC68]

Legal Authority: 14 U.S.C. 102(3); 14 U.S.C. 503; 46 U.S.C. 7101; 46 U.S.C. 7306; 46 U.S.C. 7313

Abstract: On June 21, 2024, Coast Guard published a proposed rule to implement the 2016 amendments to the International Convention on Standards of Training, Certification and Watchkeeping for Seafarers (STCW) and the STCW Code. The rule would revise U.S. Coast Guard regulations at 46 CFR subchapter B, parts 11 and 12 to include additional requirements for the training and qualifications of masters, officers, and ratings on passenger ships. These revisions are required by the STCW Convention, to which the United States is a signatory. First, the Coast Guard would implement the 2016 amendments to the STCW Convention and the STCW Code for personnel serving on passenger ships that operate on international voyages. The revisions would add a requirement for all personnel to complete passenger ship emergency familiarization training appropriate to their capacity, duties, and responsibilities during an emergency before being assigned to shipboard duties. The rule would also expand the applicability of crowd management training to include qualified ratings.

Timetable:

Action | Date | FR Cite
NPRM | 06/21/24 | 89 FR 52324
NPRM Comment Period End | 09/19/24 |
Final Rule | 10/00/25 |

Regulatory Flexibility Analysis Required: Yes

Agency Contact: Megan Johns Henry, Marine Transportation Specialist, Department of Homeland Security, U.S. Coast Guard, Office of Merchant Mariner Credentialing (CG-MMC-1), 2703 Martin Luther King Jr. Avenue SE, STOP 7509, Washington, DC 20593-7509

Phone: 571 610-3303

Email: megan.c.johns@uscg.mil

RIN: 1625-AC68

Department of Homeland Security (DHS): U.S. Coast Guard (USCG) | Completed Actions

95. CYBERSECURITY IN THE MARINE TRANSPORTATION SYSTEM [1625-AC77]

Legal Authority: 46 U.S.C. 70101; 46 U.S.C. 70102; 46 U.S.C. 70103; 46 U.S.C. 70104; 46 U.S.C. 70124

Abstract: The Coast Guard has published a final rule to update its maritime security regulations by adding regulations specifically focused on establishing minimum cybersecurity requirements for U.S.-flagged vessels, Outer Continental Shelf facilities, and U.S. facilities subject to the Maritime Transportation Security Act of 2002 regulations. This rulemaking is part of an ongoing effort to address emerging cybersecurity risks and threats to maritime security by including additional security requirements to safeguard the marine transportation system.

Timetable:

Action | Date | FR Cite
NPRM | 02/22/24 | 89 FR 13403
NPRM Comment Period Extended | 04/09/24 | 89 FR 24751
NPRM Comment Period End | 04/22/24 |
NPRM Comment Period Extended End | 05/22/24 |
Final Rule; Request for comments | 01/17/25 | 90 FR 6298
Extended Comment Period End | 03/18/25 |
Final Rule Effective | 07/16/25 |

Regulatory Flexibility Analysis Required: Yes

Agency Contact: Commander Christopher Rabalais, Chief, Systems Engineering Division (CG-ENG-3), Department of Homeland Security, U.S. Coast Guard, Office of Design and Engineering Standards, 2703 Martin Luther King Jr. Avenue SE, STOP 7509, Washington, DC 20593-7509

Phone: 202 372-1375

Email: christopher.p.rabalais@uscg.mil

RIN: 1625-AC77

Department of Homeland Security (DHS): U.S. Customs and Border Protection (USCBP) | Proposed Rule Stage

96. ELECTRONIC EXPORT MANIFEST FOR VESSEL CARGO [1651-AB59]

Legal Authority: Not Yet Determined

Abstract: U.S. Customs and Border Protection (CBP) proposes to amend its regulations to require the advance submission of electronic export manifest (EEM) information to CBP for cargo transported by vessel departing the United States. The proposed rule would identify the parties eligible to transmit advance vessel EEM information, and their responsibilities, and describe the time frames for transmission of the information prior to cargo loading or conveyance departure. Requiring this data in advance would significantly improve cargo safety and security while minimizing disruption to the flow of commerce in the sea environment.

Timetable:

Action | Date | FR Cite
NPRM | 10/00/25 |

Regulatory Flexibility Analysis Required: Yes

Agency Contact: Thomas Pagano, Chief, Outbound Enforcement Branch, Department of Homeland Security, U.S. Customs and Border Protection, Office of Field Operations, 1300 Pennsylvania Ave. NW, Washington, DC 20229

Phone: 202 344-3277

Email: cbpexportmanifest@cpb.dhs.gov

RIN: 1651-AB59

Department of Homeland Security (DHS): Transportation Security Administration (TSA) | Long-Term Actions

97. VETTING OF CERTAIN SURFACE TRANSPORTATION EMPLOYEES [1652-AA69]

Legal Authority: 49 U.S.C. 114; Pub. L. 108-90, sec. 520; Pub. L. 110-53, secs. 1411, 1414, 1512, 1520, 1522, and 1531

Abstract: The 9/11 Act requires vetting of certain railroad, public transportation, and over-the-road bus employees. Also, 6 U.S.C. 469 requires TSA to collect fees to recover the costs of the vetting services. On May 23, 2023, the Transportation Security Administration (TSA) issued a proposed rule to establish the standards and procedures to conduct the required vetting and recover costs. This regulation is related to 1652-AA55, Security Training for Surface Transportation Employees.

Timetable:

Action | Date | FR Cite
NPRM | 05/23/23 | 88 FR 33472
NPRM Comment Period End | 08/21/23 |
NPRM Extension of Comment Period | 08/22/23 | 88 FR 57044
NPRM Extension Comment Period End | 10/01/23 |
Final Rule | To Be Determined

Regulatory Flexibility Analysis Required: Yes

Agency Contact: Ashlee Marks, Branch Manager, Policy Development Branch, Surface Division, Department of Homeland Security, Transportation Security Administration, Policy, Plans, and Engagement, 6595 Springfield Center Drive, Springfield, VA 20598-6028

Phone: 571 227-3740

Email: ashlee.marks@tsa.dhs.gov

James Ruger, Chief Economist, Economic Analysis Branch-Coordination & Analysis Division, Department of Homeland Security, Transportation Security Administration, Policy, Plans, and Engagement, 6595 Springfield Center Drive, Springfield, VA 20598-6028

Phone: 571 227-5519

Email: james.ruger@tsa.dhs.gov

Christine Beyer, Senior Counsel, Regulations and Security Standards, Department of Homeland Security, Transportation Security Administration, Chief Counsel's Office, 6595 Springfield Center Drive, Springfield, VA 20598-6002

Phone: 571 227-3653

Email: christine.beyer@tsa.dhs.gov

RIN: 1652-AA69

98. AMENDING VETTING REQUIREMENTS FOR EMPLOYEES WITH ACCESS TO A SECURITY IDENTIFICATION DISPLAY AREA (SIDA) [1652-AA70]

Legal Authority: Pub. L. 114-190, sec. 3405

Abstract: The FAA Extension, Safety, and Security Act of 2016 (FESSA) requires TSA to enhance the eligibility requirements and disqualifying criminal offenses for individuals seeking or having unescorted access to any Security Identification Display Area (SIDA) of an airport. TSA will propose a rule to revise its regulations, reflecting current knowledge of insider threat and intelligence, concerning access to any SIDA of an airport. TSA will propose additions to the list of disqualifying criminal offenses and criteria, develop an appeal and waiver process for the issuance of credentials for unescorted access, and propose an extension of the lookback period for disqualifying crimes. As part of TSA's reevaluation of the eligibility and redress standards for aviation workers required by the Act, TSA is also reevaluating the current vetting process to minimize any security risks that may exist.

Timetable:

Action | Date | FR Cite
NPRM | To Be Determined

Regulatory Flexibility Analysis Required: Yes

Agency Contact: Bob Scott, Airport Policy Director, Department of Homeland Security, Transportation Security Administration, Airports Security Programs, Aviation Division, Policy, Plans, and Engagement, 6595 Springfield Center Drive, Springfield, VA 20598-6028

Phone: 202 579-3744

Email: bob.scott@tsa.dhs.gov

James Ruger, Chief Economist, Economic Analysis Branch-Coordination & Analysis Division, Department of Homeland Security, Transportation Security Administration, Policy, Plans, and Engagement, 6595 Springfield Center Drive, Springfield, VA 20598-6028

Phone: 571 227-5519

Email: james.ruger@tsa.dhs.gov

Christine Beyer, Senior Counsel, Regulations and Security Standards, Department of Homeland Security, Transportation Security Administration, Chief Counsel's Office, 6595 Springfield Center Drive, Springfield, VA 20598-6002

Phone: 571 227-3653

Email: christine.beyer@tsa.dhs.gov

RIN: 1652-AA70

Department of Homeland Security (DHS): Cybersecurity and Infrastructure Security Agency (CISA) | Long-Term Actions

99. AMMONIUM NITRATE SECURITY PROGRAM [1670-AA00]

Legal Authority: 6 U.S.C. 488 et seq.

Abstract: This rule would implement a December 2007 amendment to the Homeland Security Act. The amendment is titled “Secure Handling of Ammonium Nitrate.” It requires the Department of Homeland Security to “regulate the sale and transfer of ammonium nitrate by an ammonium nitrate facility . . . to prevent the misappropriation or use of ammonium nitrate in an act of terrorism.” The Cybersecurity and Infrastructure Security Agency (CISA) issued an Advance Notice of Proposed Rulemaking in 2008 and a Notice of Proposed Rulemaking in 2011. CISA is planning to issue a Supplemental Notice of Proposed Rulemaking.

Timetable:

Action | Date | FR Cite
ANPRM | 10/29/08 | 73 FR 64280
ANPRM Correction | 11/05/08 | 73 FR 65783
ANPRM Comment Period End | 12/29/08 |
NPRM | 08/03/11 | 76 FR 46908
Notice of Public Meetings | 10/07/11 | 76 FR 62311
Notice of Public Meetings | 11/14/11 | 76 FR 70366
NPRM Comment Period End | 12/01/11 |
Notice of Availability | 06/03/19 | 84 FR 25495
Notice of Availability Comment Period End | 09/03/19 |
Supplemental NPRM | To Be Determined

Regulatory Flexibility Analysis Required: Yes

Agency Contact: Ann Hunziker, Branch Chief for Policy Rulemaking and Engagement, Department of Homeland Security, Cybersecurity and Infrastructure Security Agency, 1310 N. Courthouse Rd., Arlington, VA 22202

Phone: 202 604-5817

Email: ann.hunziker@cisa.dhs.gov

RIN: 1670-AA00

Department of Homeland Security (DHS): Customs Revenue Functions (CUSTREV) | Long-Term Actions

100. ENTRY OF LOW-VALUE SHIPMENTS [1685-AA01]

Legal Authority: 19 U.S.C. 1321

Abstract: This rule would amend the U.S. Customs and Border Protection (CBP) regulations pertaining to the entry of certain low-value shipments not exceeding $800 that are eligible for an administrative exemption from duty and tax. Specifically, CBP proposes to create a new process for entering low-value shipments, allowing CBP to target high-risk shipments more effectively, including those containing synthetic opioids such as fentanyl. This rule would also revise the current process for entering low-value shipments to require additional data elements that would assist CBP in verifying eligibility for duty- and tax-free entry of low-value shipments and bona-fide gifts.

Timetable:

Action | Date | FR Cite
NPRM | 01/14/25 | 90 FR 3048
NPRM Comment Period End | 03/17/25 |
Final Rule | To Be Determined

Regulatory Flexibility Analysis Required: Yes

Agency Contact: Christopher Mabelitini, Director, Intellectual Property Rights & E-Commerce Division, Department of Homeland Security, Customs Revenue Functions, 1300 Pennsylvania Avenue NW, Washington, DC 20229

Phone: 202 325-6915

RIN: 1685-AA01

101. TRADE AND NATIONAL SECURITY ACTIONS AND LOW-VALUE SHIPMENTS [1685-AA02]

Legal Authority: 19 U.S.C. 1321(a)(2)(C)

Abstract: This rule would amend U.S. Customs and Border Protection (CBP) regulations pertaining to the administrative exemption for certain low-value shipments not exceeding $800. Specifically, CBP proposes to make merchandise that is subject to certain trade or national security actions ineligible for this administrative exemption and to require that certain shipments claiming this exemption provide the 10-digit Harmonized Tariff Schedule of the United States (HTSUS) classification of the merchandise.

Timetable:

Action | Date | FR Cite
NPRM | 01/21/25 | 90 FR 6852
NPRM Comment Period End | 03/24/25 |
Final Rule | To Be Determined

Regulatory Flexibility Analysis Required: Yes

Agency Contact: Christopher Mabelitini, Director, Intellectual Property Rights & E-Commerce Division, Department of Homeland Security, Customs Revenue Functions, 1300 Pennsylvania Avenue NW, Washington, DC 20229

Phone: 202 325-6915

RIN: 1685-AA02

[FR Doc. Filed 08-18-25; 0:00 a.m.]

BILLING CODE 9110-9B-P

[FR Doc. 2025-18329 Filed 9-19-25; 8:45 am]

BILLING CODE 9110-9B-P